SOCIAL SECURITY ADMINISTRATION

[Docket No. SSA-2024-0002]

Social Security Ruling, SSR 24-1p. Titles II and XVI: How We Apply Medical-Vocational Profiles

AGENCY: Social Security Administration.

ACTION: Notice of Social Security Ruling (SSR).

SUMMARY: We are providing notice of SSR 24-1p. This SSR explains how we apply the medical-vocational profiles in establishing disability under titles II and XVI of the Social Security Act (Act) and our implementing regulations. This ruling rescinds and replaces SSR 82-63.

DATES: We will apply this notice on June 22, 2024.

FOR FURTHER INFORMATION CONTACT: Mary Quatroche, Social Security Administration, Office of Disability Policy, 6401 Security Boulevard, Baltimore, MD 21235-6401, (410) 966-4794 or TTY 410-966-5609, for information about this notice. For information on eligibility or filing for benefits, call our national toll-free number, 1-800-772-1213 or TTY 1-800-325-0778, or visit our internet site, Social Security Online, at https://www.ssa.gov.

SUPPLEMENTARY INFORMATION: Although 5 U.S.C. 552(a)(1) and (a)(2) do not require us to publish this SSR, we are publishing it in accordance with 20 CFR 402.35(b)(1).

SSRs represent precedential final opinions, orders, and statements of policy and interpretations that we have adopted relating to the Federal Old Age, Survivors, and Disability Insurance program, and Supplemental Security Income program. We may base SSRs on determinations or decisions made in our administrative review process, Federal court decisions, decisions of our Commissioner, opinions from our Office of the General Counsel, or other interpretations of law and regulations.

Although SSRs do not have the same force and effect as law, they are binding on all SSA components in accordance with 20 CFR 402.35(b)(1).

This SSR will remain in effect until we publish a notice in the Federal Register that rescinds it, or until we publish a new SSR that replaces or modifies it.

The Commissioner of Social Security, Martin O'Malley, having reviewed and approved this document, is delegating the authority to electronically sign this document to Faye I. Lipsky, who is the primary Federal Register Liaison for the Social Security Administration, for purposes of publication in the Federal Register.

Faye I. Lipsky,
Federal Register Liaison, Office of Legislation and Congressional Affairs, Social Security Administration.

Policy Interpretation Ruling

SSR 24-1p: Titles II and XVI: How We Apply the Medical-Vocational Profiles

This Social Security Ruling (SSR) rescinds and replaces SSR 82-63.

Purpose: The purpose of this SSR is to explain how we apply the three medical-vocational profiles. These profiles represent combinations of the vocational factors of age, education, and work experience that are so unfavorable that an individual who meets one of them will be found to be unable to adjust to other work at step five of the sequential evaluation process without reference to the medical-vocational guidelines. The three medical-vocational profiles are the following: arduous unskilled work, no work, and lifetime commitment.

Citations (Authority): 42 U.S.C. 416(i), 423(d), and 1382c(a); 20 CFR 404.1520, 404.1560, 404.1562, 416.920, 416.960, and 416.962.

Dates: We will apply this SSR on June 22, 2024.¹

¹ We will use this SSR beginning on its applicable date. We will apply this SSR to new applications filed on or after the applicable date of the SSR and to claims that are pending on and after the applicable date. This means that we will use this SSR on and after its applicable date in any case in which we make a determination or decision. We expect that Federal courts will review our final decisions using the rules that were in effect at the time we issued the decisions. If a court reverses our final decision and remands a case for further administrative proceedings after the applicable date of this SSR, we will apply this SSR to the entire period at issue in the decision we make after the court's remand.

Policy Interpretation

To be disabled under title II of the Act, or as an adult under title XVI of the Act,² a claimant must be unable to engage in any substantial gainful activity (SGA) by reason of one or more medically determinable physical or mental impairments which can be expected to result in death, or which has lasted or can be expected to last for a continuous period of at least 12 months.³ The Act also states that an individual shall be determined to have a disability only if their physical or mental impairment(s) is of such severity that they are not only unable to do their previous work but cannot, considering their age, education, and work experience, engage in any other kind of substantial gainful work which exists in the national economy, regardless of whether such work exists in the immediate area in which they live, or whether a specific job vacancy exists for them, or whether they will be hired if they apply for work.⁴ The Act defines work which exists in the national economy as work which exists in significant numbers either in the region where such individual lives or in several regions of the country.⁵

² Individuals under age 18 who apply for Supplemental Security Income (SSI) under title XVI of the Act are disabled if they are not performing SGA and their medically determinable physical or mental impairment(s) causes marked and severe functional limitations and can be expected to cause death or has lasted or can be expected to last for a continuous period of 12 months. See 42 U.S.C. 1382c(a)(3)(C) and 20 CFR 416.906.

³ See 42 U.S.C. 416(i), 423(d), and 1382c(a). See also 20 CFR 404.1505, 404.1521, 416.905, and 416.921.

⁴ 42 U.S.C. 423(d)(2)(A) and 1382c(a)(3)(B).

⁵ Id.

Medical-Vocational Profiles in the Sequential Evaluation Process

We use a five-step sequential evaluation process to determine whether an adult is disabled.6 7 If we find at the fourth step of this process that an individual cannot perform any past relevant work (PRW) given their residual functional capacity (RFC), or that the individual has no PRW, we will decide whether the individual can adjust to other work at step five of the process.⁸ We have three medical-vocational profiles that show an inability to adjust to other work.⁹ At step five, our adjudicators must consider these medical-vocational profiles before referring to the medical-vocational guidelines.¹⁰ The three medical-vocational profiles are: (1) arduous unskilled work, (2) no work, and (3) lifetime commitment.¹¹ If an individual's medical and vocational factors match the criteria of a medical-vocational profile, we find the individual disabled.¹² If not, we consider the medical-vocational guidelines in our disability finding.¹³

⁶ 20 CFR 404.1520 and 416.920. The work profiles discussed in this SSR are not relevant to those claims involving individuals under age 18.

⁷ Once an individual is found disabled and receives benefits, we may periodically conduct a continuing disability review (CDR) to determine whether the individual continues to be disabled; see 20 CFR 404.1520(a)(5), 404.1594, 416.920(a)(5), and 416.994. Although the CDR rules use a different sequential evaluation process, the final two steps of the process used for CDRs (steps seven and eight in title II cases and steps six and seven in adult title XVI cases) mirror the final two steps used in the sequential evaluation process for initial claims (steps four and five); see 20 CFR 404.1594(f)(7)-(8) and 416.994(b)(5)(vi)-(vii).

⁸ 20 CFR 404.1520(a)(4)(v), and 416.920(a)(4)(v).

⁹ See 20 CFR 404.1520(g)(2), 404.1562, 416.920(g)(2), and 416.962; POMS DI 25010.001, available at: https://secure.ssa.gov/apps10/poms.nsf/lnx/0425010001.

¹⁰ 20 CFR 404.1562, 404.1569, Part 404 Subpart P Appendix 2, 416.962, and 416.969. For information about how we use the medical-vocational guidelines in decisionmaking, see SSR 83-10: Titles II and XVI: Determining Capability to Do Other Work—the Medical-Vocational Rules of Appendix 2.

¹¹ 20 CFR 404.1562 and 416.962; POMS DI 25010.001.

¹² Id.

¹³ 20 CFR 404.1569 and 416.969.

List of Questions and Answers—

The following information is in a question-and-answer format that explains how we apply the three medical-vocational profiles.

Questions—

1. When do we consider the medical-vocational profiles in the sequential evaluation process?

2. What are the requirements of the arduous unskilled work profile?

3. What are the requirements of the no work profile, and do we consider an individual's RFC when determining whether an individual meets this profile?

4. What are the requirements of the lifetime commitment profile and how does the lifetime commitment profile apply to an individual who has worked at multiple jobs or for multiple employers?

Answers

1. When do we consider the medical-vocational profiles in the sequential evaluation process?

We consider whether a medical-vocational profile applies at step five of the sequential evaluation process. An individual can only be found disabled based on a medical-vocational profile if we have made a finding at step four that they do not have or are unable to perform their PRW. At step five, an adjudicator must consider whether a medical-vocational profile applies before using the medical-vocational guidelines.

2. What are the requirements of the arduous unskilled work profile?

The arduous unskilled work profile demonstrates the inability to make an adjustment to other work for an individual who:

• is not working at SGA level,¹⁴

¹⁴ See 20 CFR 404.1510, 404.1572, 416.910, and 416.972.

• has a history of 35 years or more of arduous unskilled work,¹⁵

¹⁵ See 20 CFR 404.1568 and 416.968.

• can no longer perform this past arduous work because of a severe impairment(s),¹⁶ and

¹⁶ See 20 CFR 404.1522 and 416.922.

• has no more than a marginal education.¹⁷

¹⁷ See 20 CFR 404.1564 and 416.964. Marginal education means ability in reasoning, arithmetic, and language skills which are needed to do simple, unskilled types of jobs. We generally consider that formal schooling at a 6th grade level or less is a marginal education. However, the numerical grade level an individual completed in school may not reflect their actual educational abilities. 20 CFR 404.1564(b) and 416.964(b). For more information see SSR 20-1p: Titles II and XVI: How We Determine an Individual's Education Category.

We use the arduous unskilled work profile for an individual whose work experience includes very short periods of semi-skilled or skilled work, as long as the individual did not acquire any transferable skills from those periods of work.¹⁸ We also use this medical-vocational profile for an individual whose work experience includes longer periods of semi-skilled or skilled work if the skill(s) acquired is not readily transferable to lighter work.¹⁹

¹⁸ 20 CFR 404.1568 and 416.968. We consider occupations with specifical vocational preparation (SVP) levels one and two to be unskilled. Occupations with SVPs of three and four are semi-skilled, and occupations with an SVP of five or greater are skilled. See POMS DI 25015.015 Work Experience as a Vocational Factor, available at: https://secure.ssa.gov/apps10/poms.nsf/lnx/0425015015 and DOT Appendix C, available at: https://www.occupationalinfo.org/appendxc_1.html#II and. For additional information about how we consider skills from past work under our rules, see SSR 82-41: Titles II and XVI: Work Skills and Their Transferability as Intended by the Expanded Vocational Factors Regulations Effective February 26, 1979.

¹⁹ See SSR 82-41.

Arduous work is physical work requiring a high level of strength or endurance. Arduous work does not have to involve any specific physical action or exertional level, but it will usually, but not always, involve physical demands that we would classify as heavy or very heavy based on the individual's description of their past work.²⁰ Work that we would not classify as heavy or very heavy may still be considered arduous if, for example, it demands a great deal of stamina or if it involves activity such as repetitive bending and lifting at a very fast pace. An adjudicator must evaluate the record to make the ultimate finding as to whether an individual's work meets this criterion.

²⁰ See 20 CFR 404.1567 and 416.967.

3. What are the requirements of the no work profile, and do we consider an individual's RFC when determining whether an individual meets this profile?

The no work profile demonstrates the inability to make an adjustment to other work for an individual who:

• has a severe impairment(s),²¹

²¹ For individuals aged 72 and older, we consider any medically determinable physical or mental impairment(s) that meets the duration requirement to be a severe impairment. SSR 03-3p: Policy Interpretation Ruling—Titles II and XVI: Evaluation of Disability and Blindness in Initial Claims for Individuals 65 or Older. For more information about the duration requirement, see SSR 23-1p: Titles II and XVI: Duration Requirement for Disability.

• has no PRW,

• is age 55 or older, and

• has no more than a limited education.²²

²² See 20 CFR 404.1564 and 416.964. Limited education means ability in reasoning, arithmetic, and language skills, but not enough to allow an individual with these educational qualifications to do most of the more complex job duties needed in semi-skilled or skilled jobs. We generally consider that a 7th grade through the 11th grade level of formal education is a limited education. However, the numerical grade level an individual completed in school may not reflect their actual educational abilities. 20 CFR 404.1564(b) and 416.964(b). For more information see SSR 20-1p.

Our adjudicators do not need to assess or consider RFC when applying the no work profile.

4. What are the requirements of the lifetime commitment profile, and how does the lifetime commitment profile apply to an individual who has worked at multiple jobs or for multiple employers?

The lifetime commitment profile demonstrates the inability to make an adjustment to other work for an individual who:

• is not working at SGA level,

• has a lifetime commitment (30 years or more) to a field of work that is unskilled, or that is skilled or semi-skilled but provided no transferable skills,

• can no longer perform this past work because of a severe impairment(s),

• is closely approaching retirement age (i.e., age 60 or older),²³ and

²³ See 20 CFR 404.1563 and 416.963.

• has no more than a limited education.

For purposes of the lifetime commitment profile, the individual's 30 years of work do not have to have been at only one job or for only one employer. The jobs must have been in one field of work, meaning that the types of work the individual performed must have been very similar to one another. Use of this medical-vocational profile is appropriate even if the individual has work experience in a field(s) other than the one in which they have a 30-year lifetime commitment, as long as the work experience in the other field(s) is not PRW that the individual is still able to perform considering their RFC.

[FR Doc. 2024-12413 Filed 6-5-24; 8:45 am]

BILLING CODE 4191-02-P